DEPARTMENT OF TRANSPORTATION

Federal Aviation Administration

14 CFR Part 39

[Docket No. 2000-NM-79-AD; Amendment 39-11996; AD 2000-23-23]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires modification of the rib 1/wing center spar attachment. This amendment is necessary to prevent fatigue cracking at the rib 1/center spar angle and bottom corner fitting, which could result in reduced structural capability of the wing. This action is intended to address the identified unsafe condition.

DATES: Effective January 2, 2001.

The incorporation by reference of certain publications listed in the regulations is approved by the Director of the Federal Register as of January 2, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A330 and A340 series airplanes was published in the Federal Register on September 27, 2000 (65 FR 58013). That action proposed to require modification of the rib 1/wing center spar attachment.

Comments

Interested persons have been afforded an opportunity to participate in the making of this amendment. No comments were submitted in response to the proposal or the FAA's determination of the cost to the public.

Conclusion

The FAA has determined that air safety and the public interest require the adoption of the rule as proposed.

Cost Impact

The following information describes the anticipated cost impact on U.S. operators for the required modification.

Model | Number of airplanes on U.S. Register | Number of work hours | Average labor rate per work hour | Cost of required parts | Per-airplane cost
A330 | 5 | 42 | $60 | $9,950 | $12,470
A340 | 0 | 42 | 60 | 10,099 | 12,619

The cost impact figures discussed above are based on assumptions that no operator has yet accomplished the modification of this AD, and that no operator would accomplish these actions in the future if this AD were not adopted. However, the FAA has been advised that the 5 airplanes currently on the U.S. Register have been modified in accordance with the requirements of this AD. Therefore, until additional affected airplanes (unmodified) are added to the U.S. Register, this AD imposes no additional cost on U.S. operators.

The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-23-23 Airbus Industrie: Amendment 39-11996. Docket 2000-NM-79-AD.

Applicability: Model A330 and A340 series airplanes, certificated in any category; excluding those on which Airbus Modification 43021 has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent fatigue cracking at the rib 1/center spar angle and bottom corner fitting, which could result in reduced structural capability of the wing, accomplish the following:

Modification

(a) Modify the rib 1/wing center spar attachment, as specified by paragraph (a)(1) or (a)(2), as applicable, of this AD.

(1) For Model A330 series airplanes: Modify before the accumulation of 9,600 total flight cycles or 29,900 total flight hours, whichever occurs first. Do the modification in accordance with Airbus Service Bulletin A330-57-3017, including Appendix 01, Revision 02, dated October 11, 1999.

(2) For Model A340 series airplanes: Modify before the accumulation of 9,300 total flight cycles or 37,200 total flight hours, whichever occurs first. Do the modification in accordance with Airbus Service Bulletin A340-57-4022, including Appendices 01 and 02, dated October 8, 1999.

Note 2: Modification prior to the effective date of this AD in accordance with Airbus Service Bulletin A330-57-3017, dated October 14, 1998, or Revision 01, dated April 9, 1999, is acceptable for compliance with the requirements of paragraph (a) of this AD.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A330-57-3017, including Appendix 01, Revision 02, dated October 11, 1999; and Airbus Service Bulletin A340-57-4022, including Appendices 01 and 02, dated October 8, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2000-073-111(B) and 2000-074-136(B), both dated February 23, 2000.

Effective Date

(e) This amendment becomes effective on January 2, 2001.

Issued in Renton, Washington, on November 14, 2000.
Donald L. Riggin,
Acting Manager, Transport Airplane Directorate, Aircraft Certification Service.

[FR Doc. 00-29605 Filed 11-27-00; 8:45 am]

BILLING CODE 4910-13-P